DEPARTMENT OF ENERGY

Federal Energy Regulatory Commission

[Docket No. ER07-1050-000]

PJM Interconnection, L.L.C.; Notice of Post-Technical Conference Comment Procedures

October 3, 2007.

At the technical conference held in this proceeding, on Friday, September 28, 2007, comment procedures were established. Initial Comments may be filed on or before Friday, October 29, 2007. Reply Comments may be filed on or before Tuesday, November 13, 2007.

Kimberly D. Bose,
Secretary.

[FR Doc. E7-20013 Filed 10-10-07; 8:45 am]

BILLING CODE 6717-01-P